DEPARTMENT OF TRANSPORTATION

Federal Aviation Administration

[Summary Notice No. 2020-15]

Petition for Exemption; Summary of Petition Received; Wild Rabbit Production, Inc.

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion or omission of information in the summary is intended to affect the legal status of the petition or its final disposition.

DATES: Comments on this petition must identify the petition docket number and must be received on or before April 21, 2020.

ADDRESSES: Send comments identified by docket number FAA-2019-1108 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Jake Troutman (202) 683-7788, Office of Rulemaking, Federal Aviation Administration, 800 Independence Avenue SW, Washington, DC 20591.

This notice is published pursuant to 14 CFR 11.85.

Issued in Washington, DC, on March 20, 2020.
Brandon Roberts,
Acting Executive Director, Office of Rulemaking.

Petition for Exemption

Docket No.: FAA-2019-1108.

Petitioner: Wild Rabbit Production, Inc.

Section(s) of 14 CFR Affected: §§ 91.119 (c); 91.121; 91.151(b); 91.405(a); 91.407(a)(1); 91.409(a)(1) & (2); & 91.417(a) & (b).

Description of Relief Sought: The proposed exemption, if granted, would allow the petitioner to operate the Freefly Systems, Inc. Alta X unmanned aircraft system (UAS), over 55 pounds (lbs.) but no more than 70 lbs., for controlled, low-risk, closed-set aerial cinematography operations for the television and motion picture industry. Operations will be conducted within visual line of sight of the pilot or visual observer and will take place under 400 ft. above ground level. The petitioner proposes that consenting persons involved in the filming production be allowed within 100 feet of the flight operations area during production, with the additional option of reducing that distance to 30 feet if approved.

[FR Doc. 2020-06790 Filed 3-31-20; 8:45 am]

BILLING CODE 4910-13-P